DEPARTMENT OF ENERGY

Proposed Agency Information Collection

AGENCY: U.S. Department of Energy, Office of Civil Rights and Diversity.

ACTION: Notice and Request for Comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before February 19, 2008. If you anticipate difficulty in submitting comments within that period, contact the person listed in ADDRESSES as soon as possible.

ADDRESSES: Written comments may be sent to Stan Branch, Employee Concerns Manager, U.S. Department of Energy, Richland Operations Office, P.O. Box 550, M.S. A1-61, Richland, WA 99352, or by fax at (509) 372-0998, or by e-mail at stanley_o_branch@rl.gov.

FOR FURTHER INFORMATION CONTACT: Requests for additional information or copies of the information collection instrument and instructions should be directed to William A. Lewis, Jr., Deputy Director, U.S. Department of Energy, Office of Civil Rights and Diversity, 1000 Independence Ave., SW., Washington, DC, or by fax at (202) 586-0888, or by e-mail at bill.lewis@hq.doe.gov.

SUPPLEMENTARY INFORMATION: This information collection request contains: (1) OMB No. {enter “New”} (2) Information Collection Request Title: Employee Concerns Program Federal/Contractor Survey; (3) Type of Review: Regular pursuant to 5 CFR 1320.10; (4) Purpose: Prepare and perform an agency-wide Employee Concern Program survey measuring perceptions of DOE and contractor employees about the Employee Concern Program, as well as measure the effectiveness of the Employee Concern Program as experienced by clients; (5) Respondents: 40,000; (6) Estimated Number of Burden Hours: 10,000.

Statutory Authority: DOE ECP Order 442.1A, section 4(F). This order implements an Employee Concerns Program. DOE, federal and contractor employees, including supervisors and managers at any level in an organization, may report employee concerns related to the environment, safety, health, and management of DOE and National Nuclear Security Administration programs and facilities to Headquarters or field elements' Employee Concerns Programs. This independent, objective survey will help determine if employees feel free to express concerns to management.

Issued in Washington, DC on December 13, 2007.
Poli A. Marmolejos,
Director, Office of Civil Rights and Diversity.

[FR Doc. E7-24711 Filed 12-19-07; 8:45 am]

BILLING CODE 6450-01-P